DEPARTMENT OF ENERGY

Federal Energy Regulatory Commission

[Docket No. IC13-12-000]

Commission Information Collection Activities (FERC-577); Comment Request

AGENCY: Federal Energy Regulatory Commission, DOE.

ACTION: Comment request.

SUMMARY: In compliance with the requirements of the Paperwork Reduction Act of 1995, 44 USC 3507(a)(1)(D), the Federal Energy Regulatory Commission (Commission or FERC) is submitting the information collection FERC-577, Natural Gas Facilities: Environmental Review and Compliance, to the Office of Management and Budget (OMB) for review of the information collection requirements. Any interested person may file comments directly with OMB and should address a copy of those comments to the Commission as explained below. The Commission issued a Notice in the Federal Register (78 FR 13657, 2/28/2013) requesting public comments. FERC received no comments on the FERC-577 and is making this notation in its submittal to OMB.

DATES: Comments on the collection of information are due by June 17, 2013.

ADDRESSES: Comments filed with OMB, identified by the OMB Control No. 1902-0128, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC13-12-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: Natural Gas Facilities: Environmental Review and Compliance.

OMB Control No.: 1902-0128.

Type of Request: Three-year extension of the FERC-577 information collection requirements with no changes to the reporting requirements.

Abstract: Section 102(2)(c) of the National Environmental Policy Act of 1969 (NEPA) ¹ requires that all Federal agencies must include in every recommendation or report on proposals for legislation and other major federal actions significantly affecting the quality of the human environment, a detailed statement on: the environmental impact on the proposed actions; any adverse environmental effects which cannot be avoided should the proposal be implemented; alternatives to the proposed action; the relationship between local short-term uses of man's environment and the maintenance and enhancement of long term productivity; and any irreversible and irretrievable commitment of resources which would be involved in the proposed action should it be implemented.

¹ Public Law 91-190.

In order to comply with NEPA, the Commission requires applicants seeking authorization for the construction and abandonment of facilities to provide specific environmental information during the pre-filing process (18 CFR 157.21) and to provide a detailed environmental report with their application (18 CFR 380.12) that describes the impact the project is likely to have and the measures the applicant will implement to mitigate those impacts.

Type of Respondents: The respondents include all jurisdictional natural gas companies seeking authorization from the Commission to construct or abandon facilities.

Estimate of Annual Burden: 2 The Commission estimates the total Public Reporting Burden for this information collection as:

² Burden is defined as the total time, effort, or financial resources expended by persons to generate, maintain, retain, or disclose or provide information to or for a Federal agency. For further explanation of what is included in the information collection burden, reference 5 Code of Federal Regulations 1320.3.

FERC-577: Natural Gas Facilities: Environmental Review and Compliance
| Number of respondents | Number of responses per respondent | Total number of responses | Average burden hours per response | Estimated total annual burden
| (A) | (B) | (A)×(B)=(C) | (D) | (C) × (D)
Natural Gas Pipelines | 92 | 16 | 1,472 | 193 | 284, 096

The total estimated annual cost burden to respondents is $19,886,720 [284,096 hours $70/hour ³ = $19,886,720]

³ Average salary (per hour) plus benefits per full-time equivalent employee

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 9, 2013.
Kimberly D. Bose,
Secretary.

[FR Doc. 2013-11663 Filed 5-15-13; 8:45 am]

BILLING CODE 6717-01-P